DEPARTMENT OF TRANSPORTATION

Federal Railroad Administration

[Docket Number FRA-2018-0045]

Petition for Waiver of Compliance

Under part 211 of Title 49 Code of Federal Regulations (CFR), this document provides the public notice that on April 27, 2018, the Federal Railroad Administration (FRA) received a petition from Burlington Junction Railway (BJRY) for a waiver of compliance from certain provisions of the Federal railroad safety regulations contained at 49 CFR part 223. FRA assigned the petition Docket Number FRA-2018-0045.

Specifically, BJRY seeks a waiver of compliance from the glazing regulations in 49 CFR 223.11, Requirements for existing locomotives, for one locomotive, identified as BJRY Locomotive Number 3236. This locomotive was originally manufactured by Baldwin Locomotive Works in 1954 as part of an Army defense project, and was remanufactured in 1988. The locomotive is currently housed in Burlington, IA, and does not have FRA-compliant glazing.

BJRY intends to use this locomotive as a backup to their primary locomotive when it is down for inspections or repairs. Locomotive BJRY 3236 will be used for freight car switching in an industrial area on approximately 1.5 miles of track. The route consists of one overpass and six public grade crossings. The maximum speed that this locomotive will operate is 10 miles per hour.

BJRY provided documentation from the City of Burlington showing no train accidents and seven reports of criminal mischief (vandalism to vehicles) for the past three years. BJRY believes that this locomotive can be safely operated throughout the area with the current non-compliant glazing. The cost to BJRY for installation of all new window frames and compliant FRA Type I & II glazing is significant, with only a marginal increase in safety due to the limited use, short route, and low speed.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by June 29, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-10274 Filed 5-14-18; 8:45 am]

BILLING CODE 4910-06-P